DEPARTMENT OF AGRICULTURE

Forest Service

Alpine County Resource Advisory Committee (RAC)

AGENCY: Forest Service, USDA.

ACTION: Notice of meeting.

SUMMARY: The Alpine County Resource Advisory Committee (RAC) will hold a meeting.

DATES: The meeting will be held on December 21st, 2010 and will begin at 6 p.m.

ADDRESSES: The meeting will be held in Alpine County at the Alpine Early Learning Center, 100 Foothill Road, Markleeville, CA 96120.

FOR FURTHER INFORMATION CONTACT: Daniel Morris, RAC Coordinator, USDA, Humboldt-Toiyabe National Forest, Carson Ranger District, 1536 S. Carson Street, Carson City, NV 89701 (775) 884-8140; E-MAIL danielmorris@fs.fed.us.

SUPPLEMENTARY INFORMATION: Agenda items to be covered include: (1) Discussion of Forest Service Issues of interest to the public (2) Public Comment. The meeting is open to the public. Public input opportunity will be provided and individuals will have the opportunity to address the Committee at that time.

Dated: November 22, 2010.
Genny E. Wilson,
Designated Federal Officer.

[FR Doc. 2010-30023 Filed 11-30-10; 8:45 am]

BILLING CODE 3410-11-M